DEPARTMENT OF TRANSPORTATION

Federal Highway Administration

Notice To Rescind Notice of Intent To Prepare an Environmental Impact Statement; Jefferson County, MO

AGENCY: Federal Highway Administration (FHWA), DOT and the Missouri Department of Transportation.

ACTION: Rescind Notice of Intent to prepare an environmental impact statement.

SUMMARY: The FHWA is issuing this notice to advise the public that we are rescinding the Notice of Intent (NOI) to prepare an environmental impact statement (EIS) for improvements that were proposed to the transportation system in Jefferson County, Missouri.

FOR FURTHER INFORMATION CONTACT: Peggy J. Casey, Environmental Projects Team Leader, FHWA Division Office, 3220 West Edgewood, Suite H, Jefferson City, Missouri 65109, Telephone: (573) 638-2620 or Kathy Harvey, State Design Engineer, Missouri Department of Transportation, P.O. Box 270, Jefferson City, Missouri 65102, Telephone: (573) 526-5678.

SUPPLEMENTARY INFORMATION: The FHWA, in cooperation with the Missouri Department of Transportation (MoDOT), is rescinding the NOI to prepare an EIS for a project that had been proposed to improve the transportation system in Jefferson County, Missouri. The NOI is being rescinded because locally elected officials and members of the local community expressed the need to find more immediate and localized improvements to address safety and congestion problems, and do not support this project.

(Catalog of Federal Domestic Assistance Program Number 20.205, Highway Planning and Construction. The regulations implementing Executive Order 12372 regarding intergovernmental consultation on Federal programs and activities apply to this program.)

Issued on: June 24, 2009.
Peggy J. Casey,
Environmental Projects Team Leader, Jefferson City.

[FR Doc. E9-15269 Filed 6-26-09; 8:45 am]

BILLING CODE 4910-22-P